OFFICE OF NATIONAL DRUG CONTROL POLICY

Appointment of Members of Senior Executive Services Performance Review Board

AGENCY: Office of National Drug Control Policy [ONDCP].

ACTION: Notice of appointments.

Heading: Appointment of Members of Senior Executive Services Performance Review Board.

SUMMARY: The following persons have been appointed to the ONDCP Senior Executive Service Performance Review Board: Dr. Terry Zobeck, Ms. Michele Marx, Mr. Robert Denniston, and Ms. Martha Gagne.

FOR FURTHER INFORMATION CONTACT: Please direct any questions to Linda V. Priebe, Deputy General Counsel (202) 395-6622, Office of National Drug Control Policy, Executive Office of the President, Washington, DC 20503.

Linda V. Priebe,
Deputy General Counsel.

[FR Doc. E9-18289 Filed 7-30-09; 8:45 am]

BILLING CODE 3180-02-P